DEPARTMENT OF JUSTICE

Notice of Lodging of Proposed Consent Decree Under the Clean Water Act

Notice is hereby given that on June 6, 2012, a proposed Consent Decree in United States of America v. The City of Perth Amboy, New Jersey a Municipal Corporation, and the State of New Jersey, Civil Action No. 2:12-cv-03404 was lodged with the United States District Court for the District of New Jersey.

The proposed Consent Decree resolves the City of Perth Amboy's (Perth Amboy) Clean Water Act (CWA) violations stemming from its failure to properly operate and maintain its combined sewer system. Under the terms of the Consent Decree, Perth Amboy will pay a $17,000 penalty and implement injunctive relief valued at approximately $5.4 million. The injunctive relief required by the Consent Decree includes a system-wide inspection and engineering assessment that will result in a corrective action plan that will include construction projects to repair and reline sewer lines, a pilot study of combined sewer overflows, and the development of a revised operation and maintenance manual.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the City of Perth Amboy, D.J. Ref. 90-5-1-1-09500.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $56.50 (25 cents per page reproduction cost) payable to the U.S. Treasury or, if requesting by email or fax, forward a check in that amount to the Consent Decree Library at the address given above.

Ronald G. Gluck,
Assistant Chief, Environmental Enforcement Section, Environment and Natural Resources Division.

[FR Doc. 2012-15122 Filed 6-20-12; 8:45 am]

BILLING CODE 4410-15-P